DEPARTMENT OF TRANSPORTATION

Federal Aviation Administration

Sixty-Fifth Meeting: RTCA Special Committee 135, Environmental Conditions and Test Procedures for Airborne Equipment

AGENCY: Federal Aviation Administration (FAA), Department of Transportation (DOT).

ACTION: Meeting Notice of RTCA Special Committee 135, Environmental Conditions and Test Procedures for Airborne Equipment.

SUMMARY: The FAA is issuing this notice to advise the public of the Sixty-Fifth meeting of the RTCA Special Committee 135, Environmental Conditions and Test Procedures for Airborne Equipment.

DATES: The meeting will be held April 14-16, 2015 from 9:00 a.m. to 5:00 p.m.

ADDRESSES: The meeting will be held NIAR, 4004 N. Webb Rd., Wichita, KS 67226.

FOR FURTHER INFORMATION CONTACT: The RTCA Secretariat, 1150 18th Street NW., Suite 910, Washington, DC 20036, or by telephone at (202) 330-0652/(202) 833-9339, fax at (202) 833-9434, or Web site at http://www.rtca.org or Sophie Bousquet, sbousquet@rtca.org, 202-330-0663.

SUPPLEMENTARY INFORMATION: Pursuant to section 10(a)(2) of the Federal Advisory Committee Act (Pub. L. 92-463, 5 U.S.C., App.), notice is hereby given for a meeting of Special Committee 135. The agenda will include the following:

April 14-16

• Chairmen's Opening Remarks, Introductions.

• Approval of Summary from the Sixty-Fourth Meeting—(RTCA Paper No. 021-15/SC135-700).

• Review Revised Terms of Reference.

• Review DO-160H/ED-14H Schedule.

• Present New Change Proposal Forms.

• Review Change New Proposals.

• Review Working Group Activities.

• New/Unfinished Business.

• Establish date/locations for Next SC-135 Meetings.

• Closing and Adjourn.

Attendance is open to the interested public but limited to space availability. With the approval of the chairman, members of the public may present oral statements at the meeting. Persons wishing to present statements or obtain information should contact the person listed in the “FOR FURTHER INFORMATION CONTACT” section. Members of the public may present a written statement to the committee at any time.

Issued in Washington, DC, on February 10, 2015.
Mohannad Dawoud,
Management Analyst, NextGen, Program Oversight and Administration, Federal Aviation Administration.

[FR Doc. 2015-03061 Filed 2-12-15; 8:45 am]

BILLING CODE 4910-13-P